OFFICE OF PERSONNEL MANAGEMENT

5 CFR Part 532

RIN 3206-AK83

Prevailing Rate Systems; Redefinition of the Central North Carolina Appropriated Fund Wage Area

AGENCY: Office of Personnel Management.

ACTION: Final rule.

SUMMARY: The Office of Personnel Management is issuing a final rule to redefine the geographic boundaries of the Central North Carolina Federal Wage System (FWS) appropriated fund wage area. The final rule removes Edgecombe and Wilson Counties, NC, from the survey area and adds Hoke County, NC, to the survey area. The redefinition of Edgecombe, Hoke, and Wilson Counties aligns the geographic definition of the Central North Carolina wage area more closely with the regulatory criteria used to define FWS wage areas.

DATES: This rule is effective on November 21, 2005.

FOR FURTHER INFORMATION CONTACT: Madeline Gonzalez, (202) 606-2838; e-mail pay-performance-policy@opm.gov; or FAX: (202) 606-4264.

SUPPLEMENTARY INFORMATION: On May 18, 2005, the Office of Personnel Management (OPM) issued a proposed rule (70 FR 28488) to remove Edgecombe and Wilson Counties, NC, from the Central North Carolina survey area and add Hoke County, NC, to the survey area. The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

Office of Personnel Management.
Linda M. Springer,
Director.

Accordingly, the Office of Personnel Management is amending 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of North Carolina is amended by revising the listing for Central North Carolina to read as follows:

Appendix C to Subpart B of Part 532—Appropriated Fund Wage and Survey Areas

* * * * *

North Carolina

Central North Carolina

Survey Area

North Carolina: Cumberland, Durham, Harnett, Hoke, Johnston, Orange, Wake, Wayne.

Area of Application. Survey area plus:

North Carolina: Alamance, Bladen, Caswell, Chatham, Davidson, Davie, Edgecombe, Franklin, Forsyth, Granville, Guilford, Halifax, Lee, Montgomery, Moore, Nash, Northampton, Person, Randolph, Richmond, Robeson, Rockingham, Sampson, Scotland, Stokes, Surry, Vance, Warren, Wilson, and Yadkin.

South Carolina: Dillon, Marion, and Marlboro.

* * * * *

[FR Doc. 05-21050 Filed 10-20-05; 8:45 am]

BILLING CODE 6325-39-U